DEPARTMENT OF COMMERCE

National Oceanic and Atmospheric Administration

[I.D. 022002A]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene public meetings.

DATES: The meetings will be held on March 11-15, 2002.

ADDRESSES: These meetings will be held at the Adam’s Mark Hotel, 64 South Water Street, Mobile, AL 36602; telephone: 251-438-4000.

Council address: Gulf of Mexico Fishery Management Council, 3018 U.S. Highway 301 North, Suite 1000, Tampa, FL 33619.

FOR FURTHER INFORMATION CONTACT: Wayne E. Swingle, Executive Director, Gulf of Mexico Fishery Management Council; telephone: (813) 228-2815.

SUPPLEMENTARY INFORMATION:

Council

March 13

8:30 a.m.--Convene.

8:45 a.m.-- 12 noon--Receive public testimony on Draft Shrimp Amendment 10/Environmental Assessment/Regulatory Impact Review (EA/RIR), the Red Grouper Amendment, total allowable catch (TAC) recommendations for gag grouper, a greater amberjack rebuilding program, and a coastal migratory pelagic (CMP) status determination criteria. Although the Council will hear public testimony on the Red Grouper Amendment, final action will not be taken until the July 8-12, 2002 Council meeting in Sarasota, FL.

1:30 p.m.- 5:30 p.m.--Continue public testimony if necessary.

March 14

8:30 a.m.-- 9:30 a.m.--Receive a report of the Shrimp Management Committee.

9:30 a.m.- 5:00 p.m.--Receive the report of the Reef Fish Management Committee.

March 15

8:30 a.m. - 9 a.m.--Receive a report of the Personnel Committee.

9 a.m. - 9:30 a.m--Receive a report of the Mackerel Management Committee.

9:30 a.m. - 9:45 a.m.--Receive a report of the International Commission for the Conservation of Atlantic Tunas Advisory Committee.

9:45 a.m. - 10 a.m.--Receive a report of the South Atlantic Fishery Management Council Liaison.

10 a.m. - 10:15 a.m.--Receive Enforcement Reports.

10:15 a.m. - 10:30 a.m.--Receive the NMFS Regional Administrator’s Report.

10:30 a.m. - 11 a.m.--Receive Director’s Reports.

11 a.m. - 11:15 a.m.--Other Business.

March 11

10:30 a.m. - 12 noon--Convene the Mackerel Management Committee to develop recommendations for mackerel and cobia status determination criteria. The full Council will consider these recommendations on Friday morning.

1:30 p.m. - 4:30 p.m.--Convene the Shrimp Management Committee to hear a staff presentation on a revised Draft Shrimp Amendment 10/EA/RIR and develop recommendations for final action by the full Council on Thursday morning.

4:30 p.m. - 5:30 p.m.--(CLOSED SESSION) Briefing on litigation.

March 12

8:30 a.m. - 12 noon--Convene the Reef Fish Management Committee to review a draft Red Grouper Amendment containing alternatives for rebuilding of the red grouper stock. The committee will also discuss TAC recommendations for gag, and a greater amberjack rebuilding program. The full Council will consider these recommendations on Thursday.

1:30 p.m. - 5 p.m.--Continue the Reef Fish Management Committee.

Although non-emergency issues not contained in the agenda may come before the Council for discussion, in accordance with the Magnuson-Stevens Fishery Conservation and Management Act (MSFCMA), those issues may not be the subject of formal Council action during this meeting. Council action will be restricted to those issues specifically identified in this notice and any issues arising after publication of this notice that require emergency action under section 305 (c) of the MSFCMA, provided the public has been notified of the Council’s intent to take final action to address the emergency.

A copy of the Committee schedule and agenda can be obtained by calling (813) 228-2815.

Special Accommodations

These meetings are physically accessible to people with disabilities. Requests for sign language interpretation or other auxiliary aids should be directed to Anne Alford at the Council (see ADDRESSES) by March 4, 2002.

Dated: February 20, 2002.
William D. Chappell,
Acting Director, Office of Sustainable Fisheries, National Marine Fisheries Service.

[FR Doc. 02-4450 Filed 2-22-02; 8:45 am]

BILLING CODE 3510-22-S